DEPARTMENT OF TRANSPORTATION

Federal Transit Administration

Environmental Impact Statement on the Silicon Valley Rapid Transit Corridor—BART Extension to Milpitas, San Jose, and Santa Clara, CA

AGENCY: Federal Transit Administration, DOT.

ACTION: Notice of intent to prepare an Environmental Impact Statement (EIS).

SUMMARY: The Federal Transit Administration (FTA) and the Santa Clara Valley Transportation Authority (VTA) intend to prepare an Environmental Impact Statement (EIS) in accordance with the National Environmental Policy Act (NEPA) and an Environmental Impact Report (EIR) in accordance with the California Environmental Quality Act (CEQA) for the proposed BART Extension to Milpitas, San Jose, and Santa Clara in the Silicon Valley Rapid Transit Corridor. The proposed extension was selected following completion of the Silicon Valley Rapid Transit Corridor Major Investment Study (MIS) in November 2000. The MIS evaluated 11 alternatives representing various modes of travel (express bus, bus rapid transit, commuter rail, diesel and electric light rail, and BART) and various alignments and stations located in the cities of Fremont, Milpitas, San Jose, and Santa Clara, California. The MIS screening and evaluation process resulted in the adoption of a Preferred Investment Strategy by the VTA Board of Direcctors on November 9, 2001. The Preferred Investment Strategy consists of an approximate 16.3-mile extension of the BART system, which would begin at the planned Warm Springs BART station in Fremont, extend along the Union Pacific Railroad line to Milpitas, and then continue to 28th and Santa Clara Streets in San Jose. From there, BART would leave the railroad right-of-way, tunneling under downtown San Jose to the Diridon Caltrain Station. The BART extension would then turn north under the Caltrain line and terminate at the Santa Clara station. The BART extension will be further refined during the conceptual design phase of the project and carried forward in the EIS/EIR. The EIS/EIR will evaluate a No-Action Alternative, a future “New Starts” Baseline Alternative, the BART Extension Alternative including alignment and station options, and additional alternatives that emerge from the scoping process. Scoping will be accomplished through correspondence and discussions with interested persons; organizations; federal, state and local agencies; and through public meetings.

DATES: Comment Due Date: Written comments on the scope of alternatives and impacts to be considered in the EIS/EIR must be received no later than March 29, 2002, and must be sent to VTA at the address indicated below. Scoping Meetings: Public scoping meetings will be held on: (1) February 7, 2002, from 6 p.m. to 8 p.m. at Pomeroy Marshall Elementary School, 1505 Escuela Parkway, Multi-purpose Room, Milpitas, CA; (2) February 11, 2002, from 6 p.m. to 8 p.m. at San Jose Fire Training Center, 255 S. Montgomery Street, San Jose, CA; and (3) February 13, 2002, from 6 p.m. to 8 p.m. at Bowers Park, 2582 Cabrillo Avenue, Santa Clara, CA. The project purpose and alternatives will be presented at these meetings. The buildings used for the scoping meetings are accessible to persons with disabilities. Any individual who requires special assistance, such as a sign language interpreter, to participate in a scoping meeting should contact VTA Community Outreach at (408) 321-7575 or TDD only at (408) 321-2330. Scoping material will be available at the meeting.

ADDRESSES: Written comments should be sent to Ms. Lisa Ives, Project Manager, VTA, 3331 North First Street, San Jose, CA 95134-1906. Phone: (408) 321-5744. Fax: (408) 321-9765, E-mail: svrtc@vta.org.

FOR FURTHER INFORMATION CONTACT: Ms. Lisa Ives, Project Manager, VTA, 3331 North First Street, San Jose, CA 95134-1906. Phone (408) 321-5744 or Mr. Jerome Wiggins, Office of Planning and Program Development, FTA, 201 Mission Street, Room 2210, San Francisco, CA 94105. Phone: (415) 744-3115. People with special needs should contact VTA Community Outreach at (408) 321-7575 or TDD only at (408) 321-2330.

SUPPLEMENTARY INFORMATION:

I. Scoping

The FTA and VTA invite all interested individuals and organizations, and federal, state, regional, and local agencies to provide comments on the scope of the project and environmental considerations. The Silicon Valley Rapid Transit Corridor, Major Investment Study Final Report (November 2000) is available for public review at the following public libraries: (1) Dr. Martin Luther King, Jr. Main Library, 180 West San Carlos Street, San Jose, CA 95113; (2) Fremont Main Library, 2400 Stevenson Boulevard, Fremont, CA 94538; (3) Milpitas Library, 40 N. Milpitas Boulevard, Milpitas, CA 95035; and (4) Mission Library, 1098 Lexington Avenue, Santa Clara, CA 95050. The Silicon Valley Rapid Transit Corridor, Major Investment Study Final Report is also available by contacting Ms. Ives at the address and phone number given above. Ms. Ives should also be contacted to be placed on the project mailing list and to receive additional information about the project. Written comments on the alternatives and potential impacts to be considered should also be sent to Ms. Ives.

II. Project Purpose and Need

The project purpose is to improve public transit service in the Silicon Valley Rapid Transit Corridor by addressing the following specific goals established in the MIS: (1) Improve public transit service in this severely congested corridor by providing increased transit capacity and faster, convenient access throughout the San Francisco Bay Area Region, including southern Alameda County, central Contra Costa County, Tri-valley, San Joaquin Valley, and Silicon Valley; (2) enhance regional connectivity through expanded, interconnected rapid transit services between BART in Alameda County and light rail and commuter rail in Silicon Valley; (3) accommodate future travel demand in the corridor by expanding modal options; (4) alleviate severe and ever-increasing traffic congestion on the I-880 and I-680 freeways between Alameda County and Silicon Valley; (5) improve regional air quality by reducing auto emissions; (6) improve mobility options to employment, education, medical, retail, and entertainment centers for corridor residents, in particular low income, youth, elderly, disabled, and ethnic minority populations; and (7) support local economic and land use plans and goals. In general, the project would provide improved transit service to address an anticipated 52 percent growth in corridor travel over the next 20 years. The proposed BART extension would better connect corridor workers and residents with such rail transit systems as VTA light rail, Caltrain, Altamont Commuter Express (ACE), Capitol Corridor Intercity Rail Service, and Amtrak and would enhance direct public transit access to other regional activity centers.

III. Alternatives

The Silicon Valley Rapid Transit Corridor Project is examining several alternatives to be carried forward into the environmental review process. The No-Action Alternative will consist of the existing conditions, in accordance with both NEPA and CEQA requirements. The future “New Starts” Baseline Alternative includes programmed transportation improvements in the corridor and expanded express bus service. The Build or BART Extension Alternative includes an extension of the BART system from the proposed Warm Springs Station, south along the UPRR right-of-way to east San Jose, tunneling through downtown San Jose to the Diridon multi-modal Station, and north to a terminal station in Santa Clara near the Caltrain Station. Along the alignment, seven conceptual station locations have been proposed: (1) Montague/Capital, (2) Berryessa, (3) Alum Rock, (4) Civic Plaza/San Jose State University, (5) Market Street, (6) Diridon/Arena, and (7) Santa Clara. An optional North Calaveras station is also proposed in Milpitas. More precise station locations and alignment options will be developed during preparation of the Draft EIS/EIR. The EIS/EIR will also address any additional alternatives that are identified during the scoping process.

IV. Probable Effects

The purpose of the EIS/EIR is to fully disclose the environmental consequences of building and operating the BART Extension in advance of any decisions to commit substantial financial or other resources towards its implementation. The EIS/EIR will explore the extent to which project alternatives and design options result in environmental impacts and will discuss actions to reduce or eliminate such impacts. Environmental issues to be examined in the EIS/EIR include: changes in the physical environment (natural resources, air quality, noise/vibration, water quality, floodplains, geology/seismicity, visual/aesthetics, hazardous materials, energy, utilities, and electromagnetic fields/interference); changes in the social environment (land use, business, community facilities, and neighborhood disruptions); changes in traffic and pedestrian circulation; changes in transit service and patronage; associated changes in traffic congestion; and impacts on parklands and historic and cultural resources. Impacts will be identified for both the construction period and the long-term operation of the alternatives. The proposed evaluation criteria include transportation, environmental, social, economic, and financial measures, as required by current federal (NEPA) and state (CEQA) environmental laws and current Council on Environmental Quality and FTA guidelines. To ensure that the full range of issues related to this proposed action are addressed and all significant issues identified, comments and suggestions are invited from all interests parties. Comments or questions concerning this proposed action and the EIS/EIR should be directed to VTA, as noted above.

V. FTA Procedures

The Draft EIS/EIR for the proposed BART extension will be prepared simultaneously with conceptual design for station and alignment options. The Draft EIS/EIR/conceptual design process will address the potential use of federal funds for the proposed project, as well as assess the social, economic, and environmental impacts of station and alignment design options. Station design and alignment options will be refined to minimize and mitigate any adverse impacts identified. After publication, the Draft EIS/EIR will be available for public and agency review and comment, and a public hearing will be held. Based on the Draft EIS/EIR and comments received, VTA will select a preferred alternative for further assessments in the Final EIS/EIR.

Issued on January 31, 2002.
Leslie T. Rogers,
Region IX Administrator.

[FR Doc. 02-2828 Filed 2-5-02; 8:45 am]

BILLING CODE 4910-57-M